DEPARTMENT OF VETERANS AFFAIRS

Allowance for Private Purchase of an Outer Burial Receptacle in Lieu of a Government-Furnished Graveliner for a Grave in a VA National Cemetery

AGENCY: Department of Veterans Affairs.

ACTION: Notice.

SUMMARY: Public Law 104-275 was enacted on October 9, 1996. It allowed the Department of Veterans Affairs (VA) to provide a monetary allowance towards the private purchase of an outer burial receptacle for use in a VA national cemetery. Under VA regulation (38 CFR 1.629), the allowance is equal to the average cost of government-furnished graveliners minus any administrative costs to VA. The law continues to provide a veteran's survivors with the option of selecting a government-furnished graveliner for use in a VA national cemetery where such use is authorized.

The purpose of this notice is to notify interested parties of the average cost of government-furnished graveliners, administrative costs that relate to processing a claim, and the amount of the allowance payable for qualifying interments that occur during calendar year 2004.

FOR FURTHER INFORMATION CONTACT: Lisa Ciolek, Capital and Performance Budgeting (402A12), National Cemetery Administration, Department of Veterans Affairs, 810 Vermont Avenue, NW., Washington, DC 20420. Telephone: 202-273-5161 (this is not a toll-free number).

SUPPLEMENTARY INFORMATION: Under 38 U.S.C. 501(a) and Pub. L. 104-275, section 213, VA may provide a monetary allowance for the private purchase of an outer burial receptacle for use in a VA national cemetery where its use is authorized. The allowance for qualified interments that occur during calendar year 2004 is the average cost of government-furnished graveliners in fiscal year 2003, less the administrative costs incurred by VA in processing and paying the allowance in lieu of the government-furnished graveliner.

The average cost of government-furnished graveliners is determined by taking VA's total cost during a fiscal year for single-depth graveliners that were procured for placement at the time of interment and dividing it by the total number of such graveliners procured by VA during that fiscal year. The calculation excludes both graveliners procured and pre-placed in gravesites as part of cemetery gravesite development projects and all double-depth graveliners. Using this method of computation, the average cost was determined to be $164.66 for fiscal year 2003.

The administrative costs incurred by VA consist of those costs that relate to processing and paying an allowance in lieu of the government-furnished graveliner. These costs have been determined to be $9.75 for calendar year 2004.

The net allowance payable for qualifying interments occurring during calendar year 2004, therefore, is $154.91.

Approved: December 12, 2003.
Anthony J. Principi,
Secretary of Veterans Affairs.

[FR Doc. 03-31507 Filed 12-22-03; 8:45 am]

BILLING CODE 8320-01-P